DEPARTMENT OF AGRICULTURE

Food Safety and Inspection Service

9 CFR Parts 416, 417, 500, 590, and 591

[Docket No. FSIS-2005-0015]

RIN 0583-AC58

Egg Products Inspection Regulations

AGENCY: Food Safety and Inspection Service, USDA.

ACTION: Final rule; correction.

SUMMARY: Food Safety and Inspection Service (FSIS) is correcting a final rule that published on October 29, 2020. The final rule requires official plants that process egg products (herein also referred to as “egg products plants” or “plants”) to develop and implement Hazard Analysis and Critical Control Point (HACCP) Systems and Sanitation Standard Operating Procedures (Sanitation SOPs) and to meet other sanitation requirements consistent with FSIS's meat and poultry regulations.

DATES: This correction is effective December 28, 2020. The DATES, certain amendatory instructions, and regulatory text in FR Doc 2020-20151 (85 FR 68640), published on October 29, 2020 are corrected.

FOR FURTHER INFORMATION CONTACT: Victoria Levine, Program Analyst, Office of Policy and Program Development by telephone at (202) 690-3184.

SUPPLEMENTARY INFORMATION: This document corrects several technical errors with certain amendments and effective dates in FR Doc 2020-20151 (85 FR 68640), published on October 29, 2020. The DATES, certain amendatory instructions, and regulatory text are corrected.

In FR Doc 2020-20151 (85 FR 68640), published on Thursday, October 29, 2020, the following corrections are made:

DATES:

1. On page 68640, first column, the DATES section is corrected to read as follows:

This rule is effective December 28, 2020, except for: Amendatory instructions 30 (§ 590.146), 32 (§ 590.149), 54 (§§ 590.500 and 590.502), 55a (§ 590.504(f) through, (n), (p), and (q)), 56-65 (§§ 590.506 through 590.560), and 66a (§ 590.570(a)), which are effective October 29, 2021; and amendatory instructions 4 (§ 417.7), 55b (§ 590.504(d) and (o)), 66b (§ 590.570), and 67 (§ 590.575), which are effective October 31, 2022.

Effective December 28, 2020, §§ 591.1(a) and 591.2(b) are stayed through October 29, 2021 and §§ .590.149(b) and (c), 590.580(b)(1), 591.1(b), and 591.2(a) and (c) are stayed through October 31, 2022.

§ 590.504 [Corrected]

2. On page 68679, second column, amendatory instruction 55 and § 590.504 are corrected, and amendatory instructions 55a and 55b are added, to read as follows:

55. Amend § 590.504 by revising paragraphs (a) through (e) to read as follows:

§ 590.504 General operating procedures.

(a) Operations involving the processing, storing, and handling of eggs, ingredients, and egg products must be done in a sanitary manner.

(b)(1) Eggs and egg products are subject to inspection in each official plant processing egg products for commerce.

(2) Any eggs and egg products not processed in accordance with the regulations in this part or part 591 or that are not otherwise fit for human food must be removed and segregated.

(c)(1) All loss and inedible eggs or inedible egg products must be placed in a container clearly labeled “inedible” and containing a sufficient amount of denaturant or decharacterant, such as an FDA-approved color additive, suspended in the product. Eggs must be crushed and the substance dispersed through the product in amounts sufficient to give the product a distinctive appearance or odor. Inedible product may be held in containers clearly labeled “inedible” which do not contain a denaturant as long as such inedible product is properly packaged, labeled and segregated, and inventory controls are maintained. Such inedible product must be denatured or decharacterized before being shipped from a facility.

(2) Undenatured egg products or inedible egg products that are not decharacterized may be shipped from an official plant for industrial use or animal food, provided that it is properly packaged, labeled, and segregated, and inventory controls are maintained.

(d) [Reserved]

(e) Inspection program personnel may allow an official plant to move egg products that have been sampled and analyzed for Salmonella, or for any other reason, before receiving the test results, if they do not suspect noncompliance by the plant with any provisions of this part. The official plant must maintain control of the products represented by the sample pending the results.

* * * * *

§ 590.504 [Amended]

55a. Effective October 29, 2021, amend § 590.504 by removing and reserving paragraphs (f) through (n), and removing paragraphs (p) and (q).

§ 590.504 General operating procedures.

55b. Effective October 31, 2022, amend § 590.504 by adding paragraph (d) and removing paragraphs (f) through (o) to read as follows:

* * * * *

(d)(1) Egg products must be processed to meet the standard set out in § 590.570.

(2) Unpasteurized or microbial pathogen-positive egg products may be shipped from an official plant to another official plant only when they are to be pasteurized, heat treated, or treated using other methods of treatment sufficient to produce egg products that are edible without additional preparation to achieve food safety in the second official plant. Official plants must maintain control of shipments of unpasteurized or microbial pathogen-positive egg products shipped from one official plant to another official plant for pasteurization or treatment. Shipping plants must seal such shipments in cars or trucks and label them in accordance with § 590.410(c). Containers of unpasteurized or microbial pathogen-positive egg product must be marked with the identification mark shown in Figure 2 of § 590.415.

* * * * *

§ 590.570 [Corrected]

3. On page 68680, second column, amendatory instruction 66 is corrected as instruction 66b, and new amendatory instructions 66 and 66a are added, to read as follows:

§ 590.570 [Amended]

66. Amend § 590.570 by removing paragraph (c).

§ 590.570 [Amended]

66a. Effective October 29, 2021, amend § 590.570 by removing and reserving paragraph (a).

66b. Effective October 31, 2022, revise § 590.570 to read as follows:

Done at Washington, DC.
Paul Kiecker,
Administrator.

[FR Doc. 2020-26798 Filed 12-15-20; 8:45 am]

BILLING CODE 3410-DM-P